NUCLEAR REGULATORY COMMISSION

[Docket No. NRC-2012-0176]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on September 5, 2012 (77 FR 54615).

1. Type of submission, new, revision, or extension: Extension.

2. The title of the information collection: 10 CFR Part 110, Export and Import of Nuclear Equipment and Material.

3. Current OMB approval number: 3150-0036.

4. The form number if applicable: NRC Forms 830, 830A, 831, and 831A.

5. How often the collection is required: On occasion and annually.

6. Who will be required or asked to report: Any person in the U.S. who wishes to export or import nuclear material or equipment subject to the requirements of a general or specific license.

7. An estimate of the number of annual responses: 2,598.

8. The estimated number of annual respondents: 108.

9. An estimate of the total number of hours needed annually to complete the requirement or request: 780.

10. Abstract: Persons in the U.S. whom export or import nuclear material or equipment under a general or specific authorization must comply with certain reporting and recordkeeping requirements under part 110 of Title 10 of the Code of Federal Regulations (10 CFR).

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by January 22, 2013. Comments received after this date will be considered if it is practical to do so, but assurance of consideration cannot be given to comments received after this date.

Chad Whiteman, Desk Officer, Office of Information and Regulatory Affairs (3150-0036), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 17th day of December, 2012.
For the Nuclear Regulatory Commission.
Tremaine Donnell,
NRC Clearance Officer, Office of Information Services.

[FR Doc. 2012-30807 Filed 12-20-12; 8:45 am]

BILLING CODE 7590-01-P